DEPARTMENT OF ENERGY

Office of Arms Control and Nonproliferation; Proposed Subsequent arrangement

AGENCY: Department of Energy.

ACTION: Subsequent arrangement.

SUMMARY: This notice has been issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM).

This subsequent arrangement concerns the addition of Brazil, Kazakhstan, Romania and Ukraine to the list of countries referred to in paragraph 2 of the Agreed Minute to the Agreement for Cooperation in the Peaceful Uses of Nuclear Energy, listing countries eligible to receive retransfers under Article 8.1(C)(i) of the Agreement of low enriched uranium, non-nuclear material, equipment and source material transferred under the Agreement, or receive retransfers of low enriched uranium produced through the use of nuclear material or equipment transferred under the Agreement, for nuclear fuel cycle activities other than the production of high enriched uranium.

The United States has brought into force new Agreements for Cooperation in the Peaceful Uses of Nuclear Energy, under the authority of Section 123 of the Atomic Energy Act of 1954, as amended (42 U.S.C. 2160), with Brazil, Kazakhstan, Romania and Ukraine. These four countries have also made effective non-proliferation commitments as prescribed in paragraph 2 of the Agreed Minute to the U.S.-EURATOM Agreement. Accordingly, they are eligible third countries to which retransfers may be made.

In accordance with Section 131 of the Atomic Energy Act of 1954, as amended, we have determined that this subsequent arrangement will not be inimical to the common defense and security.

This subsequent arrangement will take effect no sooner than fifteen days after the date of publication of this notice.

For the Department of Energy.
Andrew Bieniawski,
Acting Director, Office of International Policy and Analysis, for Arms Control and Nonproliferation, Office of Defense Nuclear Nonproliferation.

[FR Doc. 00-26153 Filed 10-11-00; 8:45 am]

BILLING CODE 6450-01-P